DEPARTMENT OF STATE

[Public Notice: 11347]

Proposal To Extend and Amend Cultural Property Agreement Between the United States and Egypt

AGENCY: Department of State.

ACTION: Public notice.

SUMMARY: Proposal to extend and amend the Memorandum of Understanding Concerning the Imposition of Import Restrictions on Categories of Archaeological Material of the Arab Republic of Egypt.

FOR FURTHER INFORMATION CONTACT: Catherine Foster, Cultural Heritage Center, Bureau of Educational and Cultural Affairs: 202-632-6301; culprop@state.gov; include “Egypt” in the subject line.

SUPPLEMENTARY INFORMATION: Pursuant to the authority vested in the Assistant Secretary of State for Educational and Cultural Affairs, and pursuant to 19 U.S.C. 2602(f)(1), an extension and amendment of the Memorandum of Understanding Concerning the Imposition of Import Restrictions on Categories of Archaeological Material of the Arab Republic of Egypt is hereby proposed.

A copy of the Memorandum of Understanding, the Designated List of categories of material restricted from import into the United States, and related information can be found at the Cultural Heritage Center website: http://culturalheritage.state.gov.

Allison R. Davis,
Executive Director CPAC, Bureau of Educational and Cultural Affairs, Department of State.

[FR Doc. 2021-02369 Filed 2-4-21; 8:45 am]

BILLING CODE 4710-05-P